DEPARTMENT OF LABOR

Employment and Training Administration

[TA-W-56,449]

Fisher Scientific Company, A Division of Fisher Scientific International, Inc., Laboratory Equipment Division, Indiana, PA; Notice of Termination of Investigation

Pursuant to section 221 of the Trade Act of 1974, as amended, an investigation was initiated on February 1, 2005, in response to a petition filed by a company official on behalf of workers at Fisher Scientific Company, a division of Fisher Scientific International, Inc., Laboratory Equipment Division, Indiana, Pennsylvania.

The petitioner has requested that the petition be withdrawn. Consequently, the investigation has been terminated.

Signed in Washington, DC, this 8th day of March, 2005.
Richard Church,
Certifying Officer, Division of Trade Adjustment Assistance.

[FR Doc. E5-1349 Filed 3-25-05; 8:45 am]

BILLING CODE 4510-30-P